DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 75 FR 61157-61160 dated October 4, 2010).

This notice reflects organizational changes in the Health Resources and Services Administration. This notice updates the functional statement for the Office of Special Health Affairs (RA1). Specifically, this notice establishes the Office of Emergency Preparedness and Continuity of Operations (RA15) within the Office of Special Health Affairs (RA1).

Chapter RA1—Office of Special Health Affairs

Section RA1-10, Organization

Delete in its entirety and replace with the following:

The Office is headed by the Director, Office of Special Health Affairs (RA1), who reports directly to the Administrator, Health Resources and Services Administration. Office of Special Health Affairs includes the following components:

(1) Office of the Director (RA1);

(2) Office of Health Equity (RA11);

(3) Office of Global Health Affairs (RA12);

(4) Office of Strategic Priorities (RA13);

(5) Office of Health Information Technology and Quality (RA14); and

(6) Office of Emergency Preparedness and Continuity of Operations (RA15).

Section RA1-20, Functions

(1) Delete the functional statement for the Office of the Director (RA1) and replace in its entirety; and (2) establish the Office of Emergency Preparedness and Continuity of Operations (RA15).

Office of the Director (RA1)

Provides overall leadership, direction, coordination, and planning in the support of the Agency's cross-cutting health programs. Specifically: (1) Plans and directs activities to advance health equity and improve minority health and eliminate health disparities; (2) develops strategies to maximize HRSA's participation in efforts to improve health care for vulnerable populations worldwide; (3) provides leadership and direction to improve the delivery and quality of oral and behavioral health care and other Agency strategic priority health concerns; (4) provides leadership and direction in the development of policies on health information technology and quality; (5) provides support for the Department's Medical Claims Review Panel; and (6) coordinates HRSA activities related to emergency preparedness planning, policy, and continuity of operations and Government.

Office of Health Equity (RA11)

Serves as the principal advisor and coordinator to the Agency for the special needs of minority and disadvantaged populations, including: (1) Provides leadership and direction to address HHS and HRSA Strategic Plan goals and objectives related to improving minority health and eliminating health disparities; (2) establishes and manages an Agency-wide data collection system for minority health activities and initiatives including the White House Initiatives for Historically Black Colleges and Universities, Educational Excellence for Hispanic Americans, Tribal Colleges and Universities, Asian Americans and Pacific Islanders, and departmental initiatives; (3) implements activities to increase the availability of data to monitor the impact of Agency programs in improving minority health and eliminating health disparities; (4) participates in the formulation of HRSA's goals, policies, legislative proposals, priorities, and strategies as they affect health professional organizations and institutions of higher education and others involved in or concerned with the delivery of culturally-appropriate, quality health services to minorities and disadvantaged populations; (5) consults with Federal agencies and other public and private sector agencies and organizations to collaborate in addressing health equity, including enhancing cultural competence in health service providers; (6) establishes short-term and long-range objectives; and (7) participates in the focus of activities and objectives in assuring equity in access to resources and health careers for minorities and the disadvantaged.

Office of Global Health Affairs (RA12)

Serves as the principal advisor to the Agency on global health issues. Specifically: (1) Provides leadership, coordination, and advancement of global health activities relating to health care services for vulnerable and at-risk populations and for training programs for health professionals; (2) provides support for the Agency's International Visitors Program; and (3) provides leadership within HRSA for the support of global health and coordinates policy development with the Office of Global Health Affairs (OGHA) and other departmental agencies.

Office of Strategic Priorities (RA13)

Serves as the principal advisor to the Administrator on major health priorities including, but not limited to oral and mental health. Specifically: (1) Provides leadership and coordination to improve oral and behavioral health infrastructure, delivery, and systems of care; (2) establishes short-term and long-term goals and objectives to improve the quality of oral and behavioral health care; (3) collaborates with other departmental and Federal agencies to promote oral and behavioral health by building public-private partnerships; (4) coordinates oral and behavioral health activities across HRSA programs; and (5) establishes program goals, objectives and priorities to improve oral and behavioral health status and outcomes to eliminate disparities.

Office of Health Information Technology and Quality (RA14)

Serves as the principal advisor and coordinator to the Agency for health information technology and quality. Specifically: (1) Provides support, policy direction, and leadership for HRSA's health quality efforts; (2) serves as the focal point for developing policy to promote the coordination and advancement of health information technology, including telehealth to HRSA's programs, including the use of electronic health record systems; (3) develops an Agency-wide health information technology and telehealth strategy for HRSA; (4) assists HRSA components in program-level health information technology and health quality efforts; (5) ensures successful dissemination of appropriate information technology advances, such as electronic health records systems, to HRSA programs; (6) works collaboratively with States, foundations, national organizations, private sector providers, as well as departmental agencies and other Federal departments in order to promote the adoption of health information technology and health quality policy; (7) ensures the health information technology policy and activities of HRSA are coordinated with those of other HHS components; (8) assesses the impact of health information technology and quality initiatives in the community, especially for the uninsured, underserved, and special needs populations; (9) translates technological advances in health information technology to HRSA's programs; (10) provides guidance in using the results of the medical claims review process to HRSA programs to improve quality; and (11) provides support for the Department's Medical Claims Review Panel.

Office of Emergency Preparedness and Continuity of Operations (RA15)

(1) Coordinates HRSA activities related to emergency preparedness planning and policy; (2) oversees the HRSA Emergency Operations Center; (3) serves as HRSA's liaison to HHS and interagency partners on emergency preparedness matters; (4) coordinates HRSA continuity of operations and continuity of Government activities and maintains HRSA's Alternate Operating Facilities; (5) provides guidance on workforce health protection issues for emergencies and disasters; (6) ensures HRSA's commissioned corps is ready to respond to public health challenges and emergencies identified by the Secretary; and (7) in conjunction with the Office of Force Readiness and Deployment, ensures the readiness and deployment capability of officers assigned to HRSA.

Section RA-30, Delegations of Authority

All delegations of authority and re-delegations of authority made to HRSA officials that were in effect immediately prior to this reorganization, and that are consistent with this reorganization, shall continue in effect pending further re-delegation.

This reorganization is upon date of signature.

Dated: October 8, 2010.
Mary K. Wakefield,
Administrator.

[FR Doc. 2010-26079 Filed 10-15-10; 8:45 am]

BILLING CODE 4165-15-P